DEPARTMENT OF TRANSPORTATION

Federal Aviation Administration

14 CFR Part 39

[Docket No. FAA-2014-0622; Directorate Identifier 2014-NM-009-AD; Amendment 39-18080; AD 2015-02-13]

RIN 2120-AA64

Airworthiness Directives; Empresa Brasileira de Aeronautica S.A. (Embraer) Airplanes

AGENCY: Federal Aviation Administration (FAA), Department of Transportation (DOT).

ACTION: Final rule.

SUMMARY: We are adopting a new airworthiness directive (AD) for all Empresa Brasileira de Aeronautica S.A. (Embraer) Model EMB-135ER, -135KE, -135KL, -135LR, -145, -145ER, -145MR, -145LR, -145XR, -145MP, and -145EP airplanes. This AD was prompted by a determination of the need to revise the airplane airworthiness limitations related to the pylon yokes I and II, and the skin panel of the windshield pillar. This AD requires revising the maintenance or inspection program, as applicable. We are issuing this AD to prevent fatigue cracking of various structural elements, which could affect the structural integrity of the airplane.

DATES: This AD becomes effective March 6, 2015.

The Director of the Federal Register approved the incorporation by reference of certain publications listed in this AD as of March 6, 2015.

ADDRESSES: You may examine the AD docket on the Internet at http://www.regulations.gov/#!docketDetail;D=FAA-2014-0622; or in person at the Docket Management Facility, U.S. Department of Transportation, Docket Operations, M-30, West Building Ground Floor, Room W12-140, 1200 New Jersey Avenue SE., Washington, DC.

For service information identified in this AD, contact Empresa Brasileira de Aeronautica S.A. (Embraer), Technical Publications Section (PC 060), Av. Brigadeiro Faria Lima, 2170—Putim—12227-901 São Jose dos Campos—SP—Brasil; telephone +55 12 3927-5852 or +55 12 3309-0732; fax +55 12 3927-7546; email distrib@embraer.com.br; Internet http://www.flyembraer.com. You may view this referenced service information at the FAA, Transport Airplane Directorate, 1601 Lind Avenue SW., Renton, WA. For information on the availability of this material at the FAA, call 425-227-1221.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION:

Discussion

We issued a notice of proposed rulemaking (NPRM) to amend 14 CFR part 39 by adding an AD that would apply to all Embraer Model EMB -135ER, -135KE, -135KL, -135LR, -145, -145ER, -145MR, -145LR, -145XR, -145MP, and -145EP airplanes. The NPRM published in the Federal Register on September 4, 2014 (79 FR 52588).

The Agência Nacional de Aviação Civil (ANAC), which is the aviation authority for Brazil, has issued Brazilian Airworthiness Directive 2014-01-01, dated January 20, 2014 (referred to after this as the Mandatory Continuing Airworthiness Information, or “the MCAI”), to correct an unsafe condition for all Embraer Model EMB -135ER, -135KE, -135KL, -135LR, -145, -145ER, -145MR, -145LR, -145XR, -145MP, and -145EP airplanes. The MCAI states:

This [Brazilian] AD was prompted by a new revision to the airworthiness limitations requirements [related to the pylon yokes I and II, and the skin panel of the windshield pillar] of the Maintenance Review Board Report. We are issuing this [Brazilian] AD to ensure that fatigue cracking of various structural elements is detected and corrected.

You may examine the MCAI in the AD docket on the Internet at http://www.regulations.gov/#!documentDetail;D=FAA-2014-0622-0002.

Comments

We gave the public the opportunity to participate in developing this AD. We received no comments on the NPRM (79 FR 52588, September 4, 2014) or on the determination of the cost to the public.

Conclusion

We reviewed the relevant data and determined that air safety and the public interest require adopting this AD as proposed, except for minor editorial changes. We have determined that these minor changes:

• Are consistent with the intent that was proposed in the NPRM (79 FR 52588, September 4, 2014) for correcting the unsafe condition; and

• Do not add any additional burden upon the public than was already proposed in the NPRM (79 FR 52588, September 4, 2014).

Related Service Information

We reviewed EMBRAER EMB145 Temporary Revision 15-3, dated August 26, 2013, to the Airworthiness Limitation Requirements of the EMBRAER EMB145 Maintenance Review Board Report MRB 145/1150; and EMBRAER EMB145 Temporary Revision 15-4, dated August 26, 2013, to the Airworthiness Limitation Requirements of the EMBRAER EMB145 Maintenance Review Board Report MRB-145/1150. The service information describes airworthiness limitations related to inspections of certain fuselage or pylon components. You can find this information at http://www.regulations.gov by searching for and locating Docket No. FAA-2014-0622.

Costs of Compliance

We estimate that this AD affects 688 airplanes of U.S. registry.

We also estimate that it will take about 1 work-hour per product to comply with the basic requirements of this AD. The average labor rate is $85 per work-hour. Based on these figures, we estimate the cost of this AD on U.S. operators to be $58,480, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0622; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-13 Empresa Brasileira de Aeronautica S.A. (Embraer): Amendment 39-18080. Docket No. FAA-2014-0622; Directorate Identifier 2014-NM-009-AD.

(a) Effective Date

This AD becomes effective March 6, 2015.

(b) Affected ADs

None.

(c) Applicability

This AD applies to Empresa Brasileira de Aeronautica S.A. (Embraer) Model EMB -135ER, -135KE, -135KL, -135LR, -145, -145ER, -145MR, -145LR, -145XR, -145MP, and -145EP airplanes, certificated in any category, all serial numbers.

(d) Subject

Air Transport Association (ATA) of America Code 54, Nacelles/pylons; 53, Fuselage.

(e) Reason

This AD was prompted by our determination of the need to revise the airplane airworthiness limitations to the pylons and fuselage. We are issuing this AD to prevent fatigue cracking of various structural elements, which could affect the structural integrity of the airplane.

(f) Compliance

Comply with this AD within the compliance times specified, unless already done.

(g) Revision of Maintenance or Inspection Program

Within 60 days after the effective date of this AD: Revise the maintenance or inspection program, as applicable, by incorporating EMBRAER EMB145 Temporary Revision (TR) 15-3, dated August 26, 2013, to the Airworthiness Limitation Requirements of the EMBRAER EMB145 Maintenance Review Board Report MRB 145/1150; and EMBRAER EMB145 TR 15-4, dated August 26, 2013, to the Airworthiness Limitation Requirements of the EMBRAER EMB145 Maintenance Review Board Report MRB-145/1150; as applicable.

(1) The compliance times depend on the airplane model, and the pre-modification and post-modification conditions specified in EMBRAER EMB145 TR 15-3, dated August 26, 2013, to the Airworthiness Limitation Requirements of the EMBRAER EMB145 Maintenance Review Board Report MRB 145/1150; and EMBRAER EMB145 TR 15-4, dated August 26, 2013, to the Airworthiness Limitation Requirements of the EMBRAER Maintenance Review Board Report MRB-145/1150; as applicable.

(2) The initial compliance times for the tasks specified in EMBRAER EMB145 TR 15-3, dated August 26, 2013, to the Airworthiness Limitation Requirements of the EMBRAER EMB145 Maintenance Review Board Report MRB 145/1150; and EMBRAER EMB145 TR 15-4, dated August 26, 2013, to the Airworthiness Limitation Requirements of the EMBRAER Maintenance Review Board Report MRB-145/1150; as applicable; are at the applicable threshold compliance times specified in EMBRAER EMB145 TR 15-3, dated August 26, 2013; and EMBRAER EMB145 TR 15-4, dated August 26, 2013; or within 600 flight cycles after the effective date of this AD, whichever occurs later. For the purposes of this AD, the initial compliance times (identified as “Threshold” or “T” in the service information) are expressed in “total flight cycles.”

(h) No Alternative Actions and Intervals

After accomplishment of the revision required by paragraph (g) of this AD, no alternative actions (e.g., inspections) or intervals may be used unless the actions or intervals are approved as an alternative method of compliance (AMOC) in accordance with the procedures specified in paragraph (i)(1) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone 425-227-1175; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or Agência Nacional de Aviação Civil (ANAC); or ANAC's authorized Designee. If approved by the ANAC Designee, the approval must include the Designee's authorized signature.

(j) Related Information

Refer to Mandatory Continuing Airworthiness Information (MCAI) Brazilian Airworthiness Directive 2014-01-01, dated January 20, 2014, for related information. This MCAI may be found in the AD docket on the Internet at http://www.regulations.gov/#!documentDetail;D=FAA-2014-0622-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) EMBRAER EMB145 Temporary Revision 15-3, dated August 26, 2013, to the Airworthiness Limitation Requirements of the EMBRAER EMB145 Maintenance Review Board Report MRB 145/1150.

(ii) EMBRAER EMB145 Temporary Revision 15-4, dated August 26, 2013, to the Airworthiness Limitation Requirements of the EMBRAER EMB145 Maintenance Review Board Report MRB-145/1150.

(3) For service information identified in this AD, contact Empresa Brasileira de Aeronautica S.A. (Embraer), Technical Publications Section (PC 060), Av. Brigadeiro Faria Lima, 2170—Putim—12227-901 São Jose dos Campos—SP—Brasil; telephone +55 12 3927-5852 or +55 12 3309-0732; fax +55 12 3927-7546; email distrib@embraer.com.br; Internet http://www.flyembraer.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 15, 2015.
John P. Piccola,
Acting Manager, Transport Airplane Directorate, Aircraft Certification Service.

[FR Doc. 2015-01177 Filed 1-29-15; 8:45 am]

BILLING CODE 4910-13-P